DEPARTMENT OF STATE

[Delegation of Authority No. 274]

Delegation of Responsibilities Under Section 606 of the Foreign Relations Authorization Act, FY 2000 and 2001

By virtue of the authority vested in me as Deputy Secretary of State, including the authority delegated to me by the Secretary of State in Delegation of Authority Number 245 of April 23, 2001, and by section 1 of the State Department Basic Authorities Act of 1956 (22 U.S.C. 2651a), as amended, I hereby delegate the following functions in the Foreign Relations Authorization Act, Fiscal Years 2000 and 2001 (as enacted in Pub. L. 106-113) (“the Authorization Act”):

Section 1. Functions Delegated to the Assistant Secretary for Diplomatic Security in Consultation with the Director and Chief Operating Officer, Bureau of Overseas Buildings Operations

The functions vested in the Secretary of State by sections 606(a)(2) and 606(a)(3) of the Authorization Act with respect to U.S. diplomatic facilities other than a chancery or consulate building are delegated to the Assistant Secretary for Diplomatic Security, in consultation with the Director and Chief Operating Officer, Bureau of Overseas Buildings Operations.

Section 2. General Provisions

a. Notwithstanding any provisions of this Delegation of Authority, the Secretary of State, the Deputy Secretary of State, and the Under Secretary of State for Management may at any time exercise the functions herein delegated.

b. Any officer to whom functions are delegated by this Delegation of Authority may, to the extent consistent with law: (1) redelegate such functions and authorize their successive redelegation; and (2) promulgate such rules and regulations as may be necessary to carry out such functions.

c. Any reference in this Delegation of Authority to any act, order, determination, delegation of authority, regulation, or procedure shall be deemed to be a reference to such act, order, determination, delegation of authority, regulation, or procedure as amended from time to time, and any reference in this Delegation of Authority to any provision of law shall be deemed to include reference to any hereafter-enacted provision of law that is the same or substantially the same as such provision.

d. This Delegation of Authority supersedes the prior delegation of March 30, 2000 regarding this subject.

e. This Delegation of Authority shall be published in the Federal Register.

Dated: May 19, 2004.
Richard L. Armitage,
Deputy Secretary of State, Department of State.

[FR Doc. 04-12808 Filed 6-4-04; 8:45 am]

BILLING CODE 4710-10-P